DEPARTMENT OF TRANSPORTATION

Pipeline and Hazardous Materials Safety Administration

49 CFR Part 194

[Docket No. RSPA-03-16560; Amdt. No. 194-5]

RIN 2137-AC30

Pipeline Safety: Response Plans for Onshore Transportation-Related Oil Pipelines

AGENCY: Pipeline and Hazardous Materials Safety Administration (PHMSA), Department of Transportation (DOT).

ACTION: Final rule; correction.

SUMMARY: On February 23, 2005, the U.S. Department of Transportation, Pipeline and Hazardous Materials Safety Administration, Office of Pipeline Safety (OPS) issued a final rule adopting as a final rule, the interim final rule which was issued on January 5, 1993. This final rule also made minor amendments to some of the regulations in Part 194 in response to public comments and the experience that OPS gained in implementing the interim final rule, leading spill response exercises, and responding to actual spills. The amendments were generally technical in nature and did not involve additional costs to pipeline operators or the public.

In issuing the final rule, a table was inadvertently misprinted. This table in § 194.105(b)(3) specifies the potential spill volume reduction credits operators may use when they have secondary containment and other spill prevention measures on breakout tanks. These spill reduction credits are used when calculating the worst case discharge volume.

This correction replaces the incorrect table with the correct table.

DATES: This Final Rule correction is effective March 25, 2005.

FOR FURTHER INFORMATION CONTACT: L.E. Herrick, (202) 366-5523, U.S. Department of Transportation, Pipeline and Hazardous Materials Safety Administration, Room 2103, 400 Seventh Street, SW., Washington, DC 20590-0001, on the contents of this final rule, or the Dockets Facility, http://dms.dot.gov, (202) 366-1918, U.S. Department of Transportation, Room PL-401, 400 Seventh Street, SW., Washington, DC 20590-0001, for copies of this final rule or other information in the docket. General information about OPS programs is on the Internet home page at http://ops.dot.gov. For information on the Oil Pollution Act of 1990 (OPA 90), first click on the “Initiatives,” then on “OPA Initiatives.”

List of Subjects in 49 CFR Part 194

Environmental protection, Hazardous materials transportation, Oil pollution, Petroleum, Pipeline safety, Pipelines, Reporting and recordkeeping requirements, Transportation, Water pollution control.

Accordingly, the Final Rule, which was published at (70 FR 8734) February 23, 2005, is corrected as follows:

PART 194—RESPONSE PLANS FOR ONSHORE OIL PIPELINES

1. The authority citation for part 194 continues to read as follows:

Authority: 33 U.S.C. 1231, 1321(j)(1)(C), (j)(5), and (j)(6); sec. 2, E.O. 12777, 56 FR 54757, 3 CFR, 1991 Comp., p. 351; 49 CFR 1.53.

2. Amend § 194.105 by revising paragraph (b)(4) and its table to read as follows:

§ 194.105 Worst case discharge.

* * * * *

(b) * * *

(4) Operators may claim prevention credits for breakout tank secondary containment and other specific spill prevention measures as follows:

Prevention measure | Standard | Credit (percent)
Secondary containment > 100% | NFPA 30 | 50
Built/repaired to API standards | API STD 620/650/653 | 10
Overfill protection standards | API RP 2350 | 5
Testing/cathodic protection | API STD 650/651/653 | 5
Tertiary containment/drainage/treatment | NFPA 30 | 5
Maximum allowable credit |  | 75

* * * * *

Issued in Washington, DC, on June 2, 2005.
Joy Kadnar,
Acting Deputy Associate Administrator for Pipeline Safety.

[FR Doc. 05-11444 Filed 6-15-05; 8:45 am]

BILLING CODE 4910-60-P